Proclamation 8199 of October 31, 2007

Veterans Day, 2007

By the President of the United States of America

A Proclamation

Throughout our history, America has been protected by patriots who cherished liberty and made great sacrifices to advance the cause of freedom. The brave members of the United States Armed Forces have answered the call to serve our Nation, ready to give all for their country. On Veterans Day, we honor these extraordinary Americans for their service and sacrifice, and we pay tribute to the legacy of freedom and peace that they have given our great Nation.

In times of war and of peace, our men and women in uniform stepped forward to defend their fellow citizens and the country they love. They shouldered great responsibility and lived up to the highest standards of duty and honor. Our veterans held fast against determined and ruthless enemies and helped save the world from tyranny and terror. They ensured that America remained what our founders meant her to be: a light to the nations, spreading the good news of human freedom to the darkest corners of the earth.

Like the heroes before them, today a new generation of men and women are fighting for freedom around the globe. Their determination, courage, and sacrifice are laying the foundation for a more secure and peaceful world.

Veterans Day is dedicated to the extraordinary Americans who protected our freedom in years past, and to those who protect it today. They represent the very best of our Nation. Every Soldier, Sailor, Airman, Marine, and Coast Guardsman has earned the lasting gratitude of the American people, and their service and sacrifice will be remembered forever. In the words of Abraham Lincoln: “ . . . let us strive on to finish the work we are in, to bind up the Nation's wounds, to care for him who shall have borne the battle . . . .” On this Veterans Day, I ask all Americans to express their appreciation to our Nation's veterans.

With respect for and in recognition of the contributions our service men and women have made to the cause of peace and freedom around the world, the Congress has provided (5 U.S.C. 6103(a)) that November 11 of each year shall be set aside as a legal public holiday to honor our Nation's veterans.

NOW, THEREFORE, I, GEORGE W. BUSH, President of the United States of America, do hereby proclaim November 11, 2007, as Veterans Day and urge all Americans to observe November 11 through November 17, 2007, as National Veterans Awareness Week. I encourage all Americans to recognize the valor and sacrifice of our veterans through ceremonies and prayers. I call upon Federal, State, and local officials to display the flag of the United States and to support and participate in patriotic activities in their communities. I invite civic and fraternal organizations, places of worship, schools, businesses, unions, and the media to support this national observance with commemorative expressions and programs.

IN WITNESS WHEREOF, I have hereunto set my hand this thirty-first day of October, in the year of our Lord two thousand seven, and of the Independence of the United States of America the two hundred and thirty-second.

[FR Doc. 07-5512

Filed 11-1-07; 9:38 am]

Billing code 3195-01-P